DEPARTMENT OF TRANSPORTATION

Federal Aviation Administration

14 CFR Part 39

[Docket No. FAA-2008-0516; Directorate Identifier 2008-NM-026-AD; Amendment 39-15514; AD 2008-10-08]

RIN 2120-AA64

Airworthiness Directives; Empresa Brasileira de Aeronautica S.A. (EMBRAER) Model EMB-135 Airplanes; and Model EMB-145, -145ER, -145MR, -145LR, -145XR, -145MP, and -145EP Airplanes

AGENCY: Federal Aviation Administration (FAA), Department of Transportation (DOT).

ACTION: Final rule; request for comments.

SUMMARY: The FAA is superseding an existing airworthiness directive (AD) that applies to certain EMBRAER Model EMB-135 airplanes; and Model EMB-145, -145ER, -145MR, -145LR, -145XR, -145MP, and -145EP airplanes. The existing AD currently requires performing repetitive inspections for cracks, ruptures, or bends in certain components of the elevator control system; replacing discrepant components; and, for certain airplanes, installing a new spring cartridge and implementing new logic for the electromechanical gust lock system. The existing AD also requires eventual modification of the elevator gust lock system to replace the mechanical system with an electromechanical system, which terminates the repetitive inspections. This AD reduces the compliance time for doing the modification. This AD results from additional reports of failure of the mechanical gust lock system to protect the elevator control surfaces and components from high wind gusts. We are issuing this AD to prevent discrepancies in the elevator control system, which could result in reduced control of the elevator and consequent reduced controllability of the airplane.

DATES: This AD becomes effective May 23, 2008.

The Director of the Federal Register approved the incorporation by reference of certain publications listed in the AD as of May 23, 2008.

On February 3, 2006 (70 FR 77303, December 30, 2005), the Director of the Federal Register approved the incorporation by reference of certain other publications listed in this AD.

We must receive any comments on this AD by June 9, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Empresa Brasileira de Aeronautica S.A. (EMBRAER), P.O. Box 343, CEP 12.225, Sao Jose dos Campos, SP, Brazil.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Sanjay Ralhan, Aerospace Engineer, International Branch, ANM-116, Transport Airplane Directorate, FAA, 1601 Lind Avenue, SW., Renton, Washington 98057-3356; telephone (425) 227-1405; fax (425) 227-1149.

SUPPLEMENTARY INFORMATION:

Discussion

On December 13, 2005, we issued AD 2005-26-15, amendment 39-14436 (70 FR 77303, December 30, 2005), for certain EMBRAER Model EMB-135 airplanes; and Model EMB-145, -145ER, -145MR, -145LR, -145XR, -145MP, and -145EP airplanes. That AD requires performing repetitive inspections for cracks, ruptures, or bends in certain components of the elevator control system; replacing discrepant components; and, for certain airplanes, installing a new spring cartridge and implementing new logic for the electromechanical gust lock system. That AD also requires eventual modification of the elevator gust lock system to replace the mechanical system with an electromechanical system, which terminates the repetitive inspections. That AD resulted from reports that cracks were found in certain components of the elevator control system in the horizontal stabilizer area of several airplanes equipped with a mechanical gust lock system. Those cracks were attributed to damage from strong wind gusts on the ground. We issued that AD to prevent discrepancies in the elevator control system, which could result in reduced control of the elevator and consequent reduced controllability of the airplane.

Actions Since AD 2005-26-15 Was Issued

After we issued AD 2005-26-15, we received a report indicating that a Model EMB-145 airplane did not rotate in response to the command from the yoke during take-off, which resulted in a rejected take-off. The airplane was one of a small percentage of remaining airplanes in the U.S. fleet for which the mechanical elevator gust lock system had yet to be modified to an electromechanical elevator gust lock system, as required by AD 2005-26-15. The compliance time specified in AD 2005-26-15 for accomplishment of the modification time is within 10,000 flight hours or 60 months after February 3, 2006 (the effective date of that AD), whichever is first.

In light of the report described previously, we determined that the repetitive inspections in AD 2005-26-15 were inadequate to ensure long-term continued operational safety. Consequently, on January 18, 2008, we issued AD 2008-03-03, amendment 39-15352 (73 FR 5426, January 30, 2008), for certain EMBRAER Model EMB-135 airplanes; and Model EMB-145, -145ER, -145MR, -145LR, -145XR, -145MP, and -145EP airplanes. That AD requires additional (interim) inspections to detect discrepancies of the components of the elevator control system, repetitive movements of the control column to observe the normal response of the elevators, repetitive inspections to detect discrepancies of the skin of the elevators, and applicable related investigative actions and corrective actions. AD 2008-03-03 also provides for an optional terminating action for the inspections and measurements; that optional terminating action is the same terminating action that is required by AD 2005-26-15.

In addition, AD 2008-03-03 requires that operators submit reports of any findings of damage or discrepancies found during any inspection required by the AD. As we explained in the preamble to AD 2008-03-03, we were considering superseding AD 2005-26-15 to reduce the compliance time for that modification based on the results of those inspections.

Since we issued AD 2008-03-03, we have received additional reports of in-service failures of the mechanical gust lock system to protect the control surfaces and components of the elevator control system from high wind gusts and jet blasts. Rapid uncommanded movement of the elevator control surface induces inertia loads in the elevator control system, which may result in systematic damage that could ultimately cause failure of the elevator control system and consequent reduced control of the airplane.

FAA's Conclusion

Based on these additional reports, and in light of the severity of the identified unsafe condition, we have determined that in order to further reduce the risk of potential damage of the elevator control system components, the terminating modification required by AD 2005-26-15 must be done sooner than the compliance time specified in that AD. Accomplishment of the modification, as required by paragraph (h)(1) or (h)(2) of this AD, terminates the requirements of AD 2008-03-03, as well as the requirements of paragraph (f) of this AD.

Relevant Service Information

EMBRAER has issued Service Bulletin 145-27-0075, Revision 09, dated November 8, 2006; and Service Bulletin 145-27-0086, Revision 05, dated November 8, 2006. The procedures in these service bulletins are essentially the same as those in EMBRAER Service Bulletin 145-27-0075, Revision 06, dated July 16, 2002; and EMBRAER Service Bulletin 145-27-0086, Change 01, dated July 3, 2002; which we referred to in the proposed rules to AD 2005-26-15 as the appropriate sources of service information for doing the required modification. Accomplishing the actions specified in the service information is intended to adequately address the unsafe condition.

Differences Between the AD and the Service Information

Operators should note that this AD does not mandate installing new electrical grounding for the gust lock system actuator at the horizontal stabilizer structure, as provided in the new revisions of the service bulletins described previously.

Explanation of Brazilian Airworthiness Directive

The Departmento de Aviacao Civil (DAC), which is the former airworthiness authority for Brazil, mandated EMBRAER Service Bulletin 145-27-0075, Revision 06, and EMBRAER Service Bulletin 145-27-0086, Change 01, and further revisions approved by the DAC, by issuing Brazilian airworthiness directive 2002-01-01R3, effective November 8, 2002. The DAC issued that airworthiness directive to ensure the continued airworthiness of these airplanes in Brazil. We referred to Brazilian airworthiness directive 2002-01-01R3, effective November 8, 2002, in AD 2005-26-15 as a related source of information.

Since we issued AD 2005-26-15, the Agência Nacional de Aviação Civil (ANAC) has assumed responsibility for the airplane models subject to this AD. While it has not issued a new airworthiness directive related to this issue, we have coordinated the requirements of this AD with ANAC.

U.S. Type Certification of the Airplane

These airplane models are manufactured in Brazil and are type-certificated for operation in the United States under the provisions of section 21.29 of the Federal Aviation Regulations (14 CFR 21.29) and the applicable bilateral airworthiness agreement.

Change to Existing AD

This AD retains the requirements of AD 2005-26-15. Since AD 2005-26-15 was issued, the AD format has been revised, and certain paragraphs have been rearranged. As a result, the corresponding paragraph identifiers have changed in this AD, as listed in the following table:

Revised Paragraph Identifiers
Requirement in AD 2005-26-15 | Corresponding requirement in this AD
Paragraph (a) | Paragraph (f).
Paragraph (b) | Paragraph (g).
Paragraph (c) | Paragraph (h).
Paragraph (d) | Paragraph (i).

Paragraph (c)(2)(i) of AD 2005-26-15 (paragraph (h)(2)(i) of this AD) specifies making repairs using a method approved by either the FAA or the DAC (or its delegated agent). As we previously explained, the ANAC has assumed responsibility for the airplane model[s] subject to this AD. Therefore, we have revised paragraph (h)(2)(i) of this AD to specify making repairs using a method approved by the FAA, the DAC (or its delegated agent), or the ANAC (or its delegated agent).

FAA's Justification and Determination of the Effective Date

Based on the service reports since the release of AD 2005-26-15, we have determined that a shorter compliance time for the terminating action is necessary to address the unsafe condition and to ensure long-term continued operational safety in this case to detect any discrepancy before it represents a hazard to the airplane. Because of our requirement to promote safe flight of civil aircraft, and thus the critical need to ensure the proper functioning of the elevator control system and the short compliance time involved with this action, this AD must be issued immediately.

Because an unsafe condition exists that requires the immediate adoption of this AD, we find that notice and opportunity for prior public comment hereon are impracticable and that good cause exists for making this amendment effective in less that 30 days.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-0516; Directorate Identifier 2008-NM-026-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14436 (70 FR 77303, December 30, 2005) and adding the following new AD:

2008-10-08 Empresa Brasileira de Aeronautica S.A. (EMBRAER): Docket No. FAA-2008-0516; Directorate Identifier 2008-NM-026-AD; Amendment 39-15514.

Effective Date

(a) This AD becomes effective May 23, 2008.

Affected ADs

(b) This AD supersedes AD 2005-26-15.

Applicability

(c) This AD applies to EMBRAER Model EMB-135BJ, -135ER, -135KE, -135KL, and -135LR airplanes; and Model EMB-145, -145ER, -145MR, -145LR, -145XR, -145MP, and -145EP airplanes, certificated in any category; serial numbers 145001 through 145189 inclusive, 145191 through 145362 inclusive, 145364 through 145373 inclusive, 145375, 145377 through 145411 inclusive, 145413 through 145424 inclusive, 145426 through 145430 inclusive, 145434 through 145436 inclusive, 145440 through 145445 inclusive, 145448, 145450, and 145801; equipped with a mechanical gust lock system.

Unsafe Condition

(d) This AD results from additional reports of failure of the mechanical gust lock system to protect the elevator control surfaces and components from high wind gusts. We are issuing this AD to prevent discrepancies in the elevator control system, which could result in reduced control of the elevator and consequent reduced controllability of the airplane.

Compliance

(e) You are responsible for having the actions required by this AD performed within the compliance times specified, unless the actions have already been done.

Restatement of the Requirements of AD 2005-26-15 With Certain Revised Compliance Times/Requirements

Repetitive Inspections

(f) Within 800 flight hours after February 3, 2006 (the effective date of AD 2005-26-15), do a detailed inspection of the elevator control system for any crack, rupture, or bend in any component, in accordance with the Accomplishment Instructions of EMBRAER Service Bulletin 145-27-0087, Change 03, dated September 27, 2002. Where this service bulletin specifies to return discrepant parts and report inspection results to the manufacturer, this AD does not require these actions. Repeat the inspection thereafter at intervals not to exceed 2,500 flight hours or 15 months, whichever is first.

Note 1: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

Replacement of Discrepant Parts

(g) If any discrepant part is found during any inspection required by paragraph (f) of this AD, before further flight, replace the discrepant part with a new part, in accordance with the Accomplishment Instructions of EMBRAER Service Bulletin 145-27-0087, Change 03, dated September 27, 2002.

Modification

(h) At the applicable time specified in paragraph (j) of this AD: Modify the elevator gust lock by accomplishing paragraph (h)(1) or (h)(2) of this AD, as applicable. Accomplishment of the modification terminates the repetitive inspections required by paragraph (f) of this AD. Doing the actions required by paragraph (h)(1) or (h)(2) of this AD, as applicable, also terminates the requirements of AD 2008-03-03, amendment 39-15352. This AD does not mandate installing new electrical grounding for the gust lock system actuator at the horizontal stabilizer structure in accordance with EMBRAER Service Bulletin 145-27-0075, Revision 09, dated November 8, 2006; or EMBRAER Service Bulletin 145-27-0086, Revision 05, dated November 8, 2006.

(1) For airplanes listed in EMBRAER Service Bulletin 145-27-0075, Revision 08, dated March 3, 2005: Do paragraph (h)(1)(i) or (h)(1)(ii) of this AD, as applicable, and install a new spring cartridge and implement new logic for the electromechanical gust lock system by doing all actions in section 3.D. (Part IV) of the Accomplishment Instructions of EMBRAER Service Bulletin 145-27-0075, Revision 08, dated March 3, 2005; or Revision 09, dated November 8, 2006. After the effective date of this AD, Revision 09 of the service bulletin must be used. After accomplishing the actions in EMBRAER Service Bulletin 145-27-0101, as specified in the Accomplishment Instructions of EMBRAER Service Bulletin 145-27-0075, Revision 08 or Revision 09; the airplane flight manual (AFM) revision required by AD 2002-26-51, amendment 39-13008, may be removed from the Limitations section of the EMBRAER EMB-145 AFM. Accomplishing the actions specified in the Accomplishment Instructions of EMBRAER Service Bulletin 145-27-0102, as specified by EMBRAER Service Bulletin 145-27-0075, Revision 08 or Revision 09, terminates the repetitive inspections required by AD 2005-24-11, amendment 39-14391.

(i) Replace the mechanical gust lock system with an electromechanical gust lock system, and replace the control stand with a reworked control stand, by doing all the actions (including a detailed inspection to ensure that certain parts have been removed previously per EMBRAER Service Bulletin 145-27-0076) in and per section 3.A. (Part I) or 3.B. (Part II), as applicable, of the Accomplishment Instructions of EMBRAER Service Bulletin 145-27-0075, Revision 08 or Revision 09. If the inspection reveals that certain subject parts have not been removed previously, before further flight, remove the subject parts in accordance with EMBRAER Service Bulletin 145-27-0075, Revision 08 or Revision 09. Where Parts I and II of the Accomplishment Instructions of EMBRAER Service Bulletin 145-27-0075, Revision 08 or Revision 09, specify to remove and “send the control stand to be reworked in a workshop,” replace the control stand with a control stand reworked as specified in EMBRAER Service Bulletin 145-27-0075, Revision 08 or Revision 09. After the effective date of this AD, Revision 09 of the service bulletin must be used for the actions required by this paragraph.

(ii) Replace the return spring and spring terminal of the gust lock control lever with improved parts by doing all the actions in and per section 3.C. (Part III) of the Accomplishment Instructions of EMBRAER Service Bulletin 145-27-0075, Revision 08 or Revision 09. After the effective date of this AD, Revision 09 of the service bulletin must be used.

Note 2: Part IV of the Accomplishment Instructions of EMBRAER Service Bulletins 145-27-0075, Revision 08 and Revision 09, refers to EMBRAER Service Bulletin 145-27-0101, Revision 02, dated December 27, 2004; and EMBRAER Service Bulletin 145-27-0102, Revision 02, dated January 20, 2005; as additional sources of instructions for accomplishing the installation of a new spring cartridge and implementation of the new logic for the electromechanical gust lock system.

(2) For airplanes listed in EMBRAER Service Bulletin 145-27-0086, Change 04, dated March 21, 2005: Do paragraphs (h)(2)(i), (h)(2)(ii), (h)(2)(iii), and (h)(2)(iv) of this AD, as applicable.

(i) Rework the tail carbon box and the horizontal stabilizer by doing all the actions (including the inspection for delamination) in and per section 3.A. (Part I) of the Accomplishment Instructions of EMBRAER Service Bulletin 145-27-0086, Change 04; or Revision 05, dated November 8, 2006. After the effective date of this AD, Revision 05 of the service bulletin must be used. If any delamination is found that is outside the limits specified in EMBRAER Service Bulletin 145-27-0086, Change 04 or Revision 05, before further flight, repair per a method approved by either the Manager, International Branch, ANM-116, Transport Airplane Directorate, FAA; the Departmento de Aviacao Civil (or its delegated agent); or the Agência Nacional de Aviação Civil (or its delegated agent).

(ii) Install wiring and electrical components by doing all the actions in and per section 3.B. (Part II) of the Accomplishment Instructions of EMBRAER Service Bulletin 145-27-0086, Change 04 or Revision 05. After the effective date of this AD, Revision 05 of the service bulletin must be used.

(iii) Install and activate the electromechanical gust lock system by doing all the actions in section 3.D. (Part IV) of the Accomplishment Instructions of EMBRAER Service Bulletin 145-27-0086, Change 04 or Revision 05. Where Part IV of the Accomplishment Instructions of EMBRAER Service Bulletin 145-27-0086, Change 04 or Revision 05, specifies to remove and “send the control stand to be reworked in a workshop,” replace the control stand with a control stand reworked as specified in Part III of the service bulletin. After the effective date of this AD, Revision 05 of the service bulletin must be used.

(iv) Install a new spring cartridge and implement new logic for the electromechanical gust lock system by doing all applicable actions in section 3.E. (Part V) of the Accomplishment Instructions of EMBRAER Service Bulletin 145-27-0086, Change 04 or Revision 05. After the effective date of this AD, Revision 05 of the service bulletin must be used. After accomplishing the actions in EMBRAER Service Bulletin 145-27-0101; as specified in the Accomplishment Instructions of EMBRAER Service Bulletin 145-27-0086, Change 04 or Revision 05; the AFM revision required by AD 2002-26-51, amendment 39-13008, may be removed from the Limitations section of the EMBRAER EMB-145 AFM. Accomplishing the actions in EMBRAER Service Bulletin 145-27-0102; as specified in the Accomplishment Instructions of EMBRAER Service Bulletin 145-27-0086, Change 04 or Revision 05; terminates the repetitive inspections required by AD 2005-24-11, amendment 39-14391.

Note 3: Part V of the Accomplishment Instructions of EMBRAER Service Bulletin 145-27-0086, Change 04 and Revision 05, refers to EMBRAER Service Bulletin 145-27-0101, Revision 02, dated December 27, 2004; and EMBRAER Service Bulletin 145-27-0102, Revision 02, dated January 20, 2005; as additional sources of instructions for accomplishing the installation of a new spring cartridge and implementation of the new logic for the electromechanical gust lock system.

Actions Accomplished Previously

(i) Actions accomplished before February 3, 2006, are acceptable for compliance with the corresponding requirements of this AD, as specified in paragraphs (i)(1), (i)(2), and (i)(3) of this AD.

(1) Modification of the elevator gust lock system before February 3, 2006, in accordance with EMBRAER Service Bulletin 145-27-0075, Change 06, dated July 16, 2002, is acceptable for compliance with paragraph (h)(1) of this AD, provided that, within the compliance time specified in paragraph (h) of this AD, a new spring cartridge is installed and new logic for the electromechanical gust lock system is implemented in accordance with Part IV of EMBRAER Service Bulletin 145-27-0075, Revision 07, dated March 2, 2004, or Revision 08, dated March 3, 2005.

(2) Modification of the elevator gust lock system before February 3, 2006, in accordance with EMBRAER Service Bulletin 145-27-0075, Revision 07, dated March 2, 2004, is acceptable for compliance with paragraph (h)(1) of this AD.

(3) Modification of the elevator gust lock system before February 3, 2006, in accordance with EMBRAER Service Bulletin 145-27-0086, Change 02, dated December 23, 2003; or EMBRAER Service Bulletin 145-27-0086, Change 03, dated April 14, 2004; is acceptable for compliance with paragraph (h)(2) of this AD.

Reduced Compliance Time for Required Modification

(j) For airplanes on which the modification of the elevator gust lock system specified in paragraph (h) of this AD has not been done as of the effective date of this AD: At the earlier of the times specified in paragraphs (j)(1) and (j)(2) of this AD, accomplish the actions required by paragraph (h)(1) or (h)(2) of this AD, as applicable.

(1) Within 10,000 flight hours after February 3, 2006, or within 60 months after February 3, 2006, whichever occurs first.

(2) Within 90 days after the effective date of this AD, or 500 flight hours after the effective date of this AD, whichever occurs later.

Alternative Methods of Compliance (AMOCs)

(k)(1) The Manager, International Branch, ANM-116, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

Related Information

(l) None.

Material Incorporated by Reference

(m) You must use the service information identified in Table 1 of this AD to perform the actions that are required by this AD, as applicable, unless the AD specifies otherwise.

Table 1.—All Material Incorporated by Reference
EMBRAER Service Bulletin | Revision/change level | Date
145-27-0075 | Revision 08 | March 3, 2005.
145-27-0075 | Revision 09 | November 8, 2006.
145-27-0086 | Change 04 | March 21, 2005.
145-27-0086 | Revision 05 | November 8, 2006.
145-27-0087 | Change 03 | September 27, 2002.

(1) The Director of the Federal Register approved the incorporation by reference of the service information identified in Table 2 of this AD in accordance with 5 U.S.C. 552(a) and 1 CFR part 51.

Table 2.—New Material Incorporated by Reference
EMBRAER Service Bulletin | Revision/change level | Date
145-27-0075 | Revision 09 | November 8, 2006.
145-27-0086 | Revision 05 | November 8, 2006.

(2) On February 3, 2006 (70 FR 77303, December 30, 2005), the Director of the Federal Register approved the incorporation by reference of the service information identified in Table 3 of this AD.

Table 3.—Material Previously Incorporated by Reference
EMBRAER Service Bulletin | Revision/change level | Date
145-27-0075 | Revision 08 | March 3, 2005.
145-27-0086 | Change 04 | March 21, 2005.
145-27-0087 | Change 03 | September 27, 2002.

(3) Contact Empresa Brasileira de Aeronautica S.A. (EMBRAER), P.O. Box 343, CEP 12.225, Sao Jose dos Campos, SP, Brazil, for a copy of this service information. You may review copies at the FAA, Transport Airplane Directorate, 1601 Lind Avenue, SW., Renton, Washington; or at the National Archives and Records Administration (NARA). For information on the availability of this material at NARA, call 202-741-6030, or go to: http://www.archives.gov/federal-register/cfr/ibr-locations.html.

Issued in Renton, Washington, on April 23, 2008.
Ali Bahrami,
Manager, Transport Airplane Directorate, Aircraft Certification Service.

[FR Doc. E8-9890 Filed 5-7-08; 8:45 am]

BILLING CODE 4910-13-P